DEPARTMENT OF TRANSPORTATION

Federal Aviation Administration

14 CFR Part 97

[Docket No. 31437; Amdt. No. 4016]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective July 6, 2022. The compliance date for each SIAP, associated Takeoff Minimums, and ODP is specified in the amendatory provisions.

The incorporation by reference of certain publications listed in the regulations is approved by the Director of the Federal Register as of July 6, 2022.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fr.inspection@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for Part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore— (1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on June 24, 2022.
Thomas J Nichols,
Aviation Safety, Flight Standards Service, Manager, Standards Section, Flight Procedures & Airspace Group, Flight Technologies & Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for Part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
11-Aug-22 | CA | Susanville | Susanville Muni | 2/0125 | 6/13/22 | RNAV (GPS) RWY 29, Amdt 1B.
11-Aug-22 | GA | Atlanta | Atlanta Rgnl Falcon Fld | 2/0207 | 5/20/22 | ILS OR LOC RWY 31, Amdt 3.
11-Aug-22 | ND | Valley City | Barnes County Muni | 2/0343 | 6/17/22 | RNAV (GPS) RWY 31, Orig-A.
11-Aug-22 | ND | Valley City | Barnes County Muni | 2/0344 | 6/17/22 | RNAV (GPS) RWY 13, Orig-A.
11-Aug-22 | IL | Chicago | Chicago O'Hare Intl | 2/0362 | 4/28/22 | RNAV (GPS) RWY 4R, Amdt 1C.
11-Aug-22 | TX | San Angelo | San Angelo Rgnl/Mathis Fld | 2/0594 | 6/16/22 | ILS Y OR LOC Y RWY 3, Amdt 22A.
11-Aug-22 | TX | San Angelo | San Angelo Rgnl/Mathis Fld | 2/0596 | 6/16/22 | RNAV (GPS) RWY 3, Amdt 2.
11-Aug-22 | TX | San Angelo | San Angelo Rgnl/Mathis Fld | 2/0597 | 6/16/22 | RNAV (GPS) RWY 18, Amdt 1.
11-Aug-22 | IA | Sioux City | Sioux Gateway/Brig General Bud Day Fld | 2/0600 | 5/26/22 | RNAV (GPS) RWY 31, Orig-H.
11-Aug-22 | IA | Sioux City | Sioux Gateway/Brig General Bud Day Fld | 2/0634 | 5/26/22 | RNAV (GPS) RWY 13, Orig-F.
11-Aug-22 | IN | Indianapolis | Indianapolis Downtown | 2/0659 | 5/26/22 | COPTER VOR/DME 287, Amdt 2A.
11-Aug-22 | IN | Indianapolis | Indianapolis Downtown | 2/0666 | 5/26/22 | COPTER RNAV (GPS) 291, Orig-A.
11-Aug-22 | PA | Clearfield | Clearfield-Lawrence | 2/0679 | 5/31/22 | RNAV (GPS) RWY 30, Amdt 1C.
11-Aug-22 | CA | Madera | Madera Muni | 2/0701 | 5/27/22 | RNAV (GPS) RWY 12, Amdt 2A.
11-Aug-22 | MI | Boyne Falls | Boyne Mountain | 2/0705 | 5/26/22 | Takeoff Minimums and Obstacle DP, Amdt 4.
11-Aug-22 | SD | Mobridge | Mobridge Muni | 2/0709 | 6/17/22 | RNAV (GPS) RWY 30, Amdt 1A.
11-Aug-22 | SD | Mobridge | Mobridge Muni | 2/0710 | 6/17/22 | RNAV (GPS) RWY 12, Orig-A.
11-Aug-22 | CA | Madera | Madera Muni | 2/0758 | 5/27/22 | RNAV (GPS) RWY 30, Amdt 2A.
11-Aug-22 | TX | Plains | Yoakum County | 2/0992 | 5/27/22 | RNAV (GPS) RWY 21, Amdt 1A.
11-Aug-22 | FL | Daytona Beach | Daytona Beach Intl | 2/1128 | 5/20/22 | RNAV (GPS) RWY 16, Amdt 1D.
11-Aug-22 | AL | Brewton | Brewton Muni | 2/1132 | 5/19/22 | RNAV (GPS) RWY 24, Orig-B.
11-Aug-22 | MD | Baltimore | Baltimore/Washington Intl Thurgood Marshall | 2/1183 | 5/20/22 | RNAV (GPS) RWY 33R, Amdt 4A.
11-Aug-22 | KS | Wichita | Colonel James Jabara | 2/1185 | 4/29/22 | ILS OR LOC RWY 18, Orig-C.
11-Aug-22 | IA | Guthrie Center | Guthrie County Rgnl | 2/1189 | 5/26/22 | RNAV (GPS) RWY 36, Amdt 1A.
11-Aug-22 | MN | Park Rapids | Park Rapids Muni/Konshok Fld | 2/1246 | 3/31/22 | ILS OR LOC RWY 31, Amdt 2.
11-Aug-22 | TN | Livingston | Livingston Muni | 2/1247 | 6/14/22 | RNAV (GPS) RWY 21, Amdt 1B.
11-Aug-22 | TN | Livingston | Livingston Muni | 2/1251 | 6/14/22 | RNAV (GPS) RWY 3, Amdt 1D.
11-Aug-22 | IA | Sioux City | Sioux Gateway/Brig General Bud Day Fld | 2/1252 | 3/31/22 | ILS OR LOC RWY 13, Amdt 3.
11-Aug-22 | MO | Cape Girardeau | Cape Girardeau Rgnl | 2/1259 | 6/17/22 | RNAV (GPS) RWY 20, Orig-A.
11-Aug-22 | TX | Seymour | Seymour Muni | 2/1313 | 4/21/22 | RNAV (GPS) RWY 17, Orig-C.
11-Aug-22 | WV | Morgantown | Morgantown Muni (Walter L Bill Hart Fld) | 2/1475 | 6/6/22 | RNAV (GPS) Z RWY 18, Orig-B.
11-Aug-22 | WV | Morgantown | Morgantown Muni (Walter L Bill Hart Fld) | 2/1476 | 6/6/22 | RNAV (GPS) Y RWY 18, Orig-C.
11-Aug-22 | WV | Morgantown | Morgantown Muni (Walter L Bill Hart Fld) | 2/1477 | 6/6/22 | RNAV (GPS) RWY 36, Amdt 2.
11-Aug-22 | WV | Morgantown | Morgantown Muni (Walter L Bill Hart Fld) | 2/1478 | 6/6/22 | ILS OR LOC RWY 18, Amdt 13C.
11-Aug-22 | OH | Youngstown/Warren | Youngstown/Warren Rgnl | 2/1508 | 6/15/22 | VOR-A, Orig-B.
11-Aug-22 | NV | Las Vegas | Harry Reid Intl | 2/1517 | 4/6/22 | VOR RWY 26L/R, Amdt 4A.
11-Aug-22 | PA | State College | University Park | 2/1546 | 5/19/22 | ILS OR LOC RWY 24, Amdt 9C.
11-Aug-22 | TN | Clarksville | Outlaw Fld | 2/1552 | 5/20/22 | RNAV (GPS) RWY 17, Amdt 1B.
11-Aug-22 | NM | Albuquerque | Double Eagle II | 2/1705 | 4/22/22 | ILS OR LOC RWY 22, Amdt 3.
11-Aug-22 | TX | Ingleside | Mccampbell-Porter | 2/1719 | 6/9/22 | RNAV (GPS) RWY 13, Amdt 1A.
11-Aug-22 | SC | Rock Hill | Rock Hill/York County/Bryant Fld | 2/1789 | 5/23/22 | RNAV (GPS) RWY 20, Amdt 1A.
11-Aug-22 | NY | White Plains | Westchester County | 2/1867 | 6/14/22 | RNAV (RNP) Z RWY 16, Orig-C.
11-Aug-22 | KS | Topeka | Topeka Rgnl | 2/2088 | 6/2/22 | RNAV (GPS) RWY 3, Amdt 1B.
11-Aug-22 | TX | Edinburg | South Texas Intl At Edinburg | 2/2377 | 4/4/22 | RNAV (GPS) RWY 32, Orig-A.
11-Aug-22 | NJ | Atlantic City | Atlantic City Intl | 2/2600 | 6/14/22 | RADAR 1, Amdt 16.
11-Aug-22 | NY | Rochester | Frederick Douglass/Greater Rochester Intl | 2/2768 | 5/20/22 | Takeoff Minimums and Obstacle DP, Amdt 8.
11-Aug-22 | FL | Melbourne | Melbourne Orlando Intl | 2/2785 | 5/23/22 | VOR RWY 9R, Amdt 21B.
11-Aug-22 | IL | Taylorville | Taylorville Muni | 2/3006 | 4/4/22 | Takeoff Minimums and Obstacle DP, Orig.
11-Aug-22 | MS | Natchez | Hardy-Anders Fld/Natchez-Adams County | 2/3142 | 4/26/22 | ILS OR LOC RWY 13, Amdt 2B.
11-Aug-22 | MS | Natchez | Hardy-Anders Fld/Natchez-Adams County | 2/3143 | 4/26/22 | RNAV (GPS) RWY 18, Amdt 1B.
11-Aug-22 | MS | Natchez | Hardy-Anders Fld/Natchez-Adams County | 2/3144 | 4/26/22 | RNAV (GPS) RWY 31, Amdt 1C.
11-Aug-22 | MS | Natchez | Hardy-Anders Fld/Natchez-Adams County | 2/3145 | 4/26/22 | RNAV (GPS) RWY 36, Amdt 1C.
11-Aug-22 | MS | Natchez | Hardy-Anders Fld/Natchez-Adams County | 2/3146 | 4/26/22 | VOR RWY 18, Amdt 11.
11-Aug-22 | MO | Warrensburg | Skyhaven | 2/3380 | 6/9/22 | RNAV (GPS) RWY 1, Amdt 1.
11-Aug-22 | MO | Warrensburg | Skyhaven | 2/3381 | 6/9/22 | RNAV (GPS) RWY 19, Amdt 1.
11-Aug-22 | MO | Warrensburg | Skyhaven | 2/3382 | 6/9/22 | VOR-A, Amdt 3A.
11-Aug-22 | IN | Washington | Daviess County | 2/3525 | 4/6/22 | Takeoff Minimums and Obstacle DP, Orig-A.
11-Aug-22 | NY | Sidney | Sidney Muni | 2/3580 | 5/23/22 | RNAV (GPS) RWY 25, Amdt 1A.
11-Aug-22 | KS | Newton | Newton-City-County | 2/3665 | 6/6/22 | ILS OR LOC RWY 17, Amdt 4B.
11-Aug-22 | LA | Alexandria | Alexandria Intl | 2/3701 | 4/6/22 | RNAV (GPS) RWY 32, Amdt 1B.
11-Aug-22 | LA | Alexandria | Alexandria Intl | 2/3702 | 4/6/22 | VOR/DME RWY 32, Amdt 1B.
11-Aug-22 | TX | Baytown | Baytown | 2/4057 | 6/17/22 | RNAV (GPS) RWY 32, Orig-A.
11-Aug-22 | KY | Greenville | Muhlenberg County | 2/4191 | 6/13/22 | RNAV (GPS) RWY 6, Orig-C.
11-Aug-22 | KY | Greenville | Muhlenberg County | 2/4192 | 6/13/22 | RNAV (GPS) RWY 24, Amdt 1D.
11-Aug-22 | OH | Carrollton | Carroll County-Tolson | 2/4452 | 4/27/22 | VOR-A, Amdt 1B.
11-Aug-22 | TX | Port Lavaca | Calhoun County | 2/4928 | 6/8/22 | RNAV (GPS) RWY 32, Orig-A.
11-Aug-22 | TX | Port Lavaca | Calhoun County | 2/4929 | 6/8/22 | RNAV (GPS) RWY 14, Amdt 2A.
11-Aug-22 | GA | Canton | Cherokee County Rgnl | 2/5042 | 5/20/22 | RNAV (GPS) RWY 5, Amdt 1B.
11-Aug-22 | PA | State College | University Park | 2/5073 | 5/19/22 | RNAV (GPS) RWY 24, Amdt 1A.
11-Aug-22 | TX | Mexia | Mexia-Limestone County | 2/5213 | 5/19/22 | Takeoff Minimums and Obstacle DP, Orig.
11-Aug-22 | AR | Texarkana | Texarkana Rgnl-Webb Fld | 2/5214 | 6/6/22 | Takeoff Minimums and Obstacle DP, Amdt 4.
11-Aug-22 | IL | Kewanee | Kewanee Muni | 2/5215 | 5/18/22 | Takeoff Minimums and Obstacle DP, Orig-A.
11-Aug-22 | WI | Madison | Blackhawk Airfield | 2/5226 | 6/8/22 | Takeoff Minimums and Obstacle DP, Amdt 2.
11-Aug-22 | IA | Emmetsburg | Emmetsburg Muni | 2/5535 | 4/8/22 | RNAV (GPS) RWY 13, Orig-B.
11-Aug-22 | IL | Chicago/Lake In The Hills | Lake In The Hills | 2/5551 | 4/13/22 | RNAV (GPS) RWY 8, Orig-B.
11-Aug-22 | NY | New York | Laguardia | 2/5738 | 6/14/22 | RNAV (GPS) RWY 13, Amdt 1A.
11-Aug-22 | MI | St Ignace | Mackinac County | 2/5771 | 6/9/22 | RNAV (GPS) RWY 25, Orig-B.
11-Aug-22 | MI | St Ignace | Mackinac County | 2/5772 | 6/9/22 | RNAV (GPS) RWY 7, Orig-B.
11-Aug-22 | OH | London | Madison County | 2/5895 | 6/9/22 | RNAV (GPS) RWY 27, Orig-A.
11-Aug-22 | OH | London | Madison County | 2/5896 | 6/9/22 | RNAV (GPS) RWY 9, Orig-A.
11-Aug-22 | GA | Savannah | Savannah/Hilton Head Intl | 2/6225 | 5/31/22 | RNAV (GPS) RWY 19, Amdt 2A.
11-Aug-22 | AR | Ash Flat | Sharp County Rgnl | 2/6306 | 6/16/22 | RNAV (GPS) RWY 22, Orig-B.
11-Aug-22 | AR | Ash Flat | Sharp County Rgnl | 2/6309 | 6/16/22 | RNAV (GPS) RWY 4, Orig-B.
11-Aug-22 | MI | Holland | West Michigan Rgnl | 2/6311 | 6/9/22 | RNAV (GPS) RWY 8, Amdt 2D.
11-Aug-22 | MN | Winona | Winona Muni-Max Conrad Fld | 2/6313 | 6/9/22 | ILS Z OR LOC Z RWY 30, Orig-B.
11-Aug-22 | PA | Bellefonte | Bellefonte | 2/6346 | 6/14/22 | VOR-A, Amdt 2.
11-Aug-22 | PA | Bellefonte | Bellefonte | 2/6350 | 6/14/22 | RNAV (GPS) RWY 25, Orig-A.
11-Aug-22 | MO | Potosi | Washington County | 2/6395 | 6/13/22 | RNAV (GPS) RWY 2, Amdt 2D.
11-Aug-22 | NY | New York | Laguardia | 2/6432 | 5/23/22 | LOC RWY 31, Amdt 3D.
11-Aug-22 | TN | Cleveland | Cleveland Rgnl Jetport | 2/6434 | 5/23/22 | RNAV (GPS) RWY 3, Amdt 2B.
11-Aug-22 | TX | Longview | East Texas Rgnl | 2/6980 | 4/14/22 | ILS OR LOC RWY 13, Amdt 13C.
11-Aug-22 | VA | Winchester | Winchester Rgnl | 2/7007 | 4/15/22 | Takeoff Minimums and Obstacle DP, Amdt 1.
11-Aug-22 | TX | Dallas | Dallas Love Fld | 2/7201 | 5/6/22 | RNAV (GPS) Y RWY 31R, Amdt 3A.
11-Aug-22 | GA | Columbus | Columbus | 2/7223 | 6/15/22 | Takeoff Minimums and Obstacle DP, Amdt 7A.
11-Aug-22 | IN | Terre Haute | Sky King | 2/7394 | 4/14/22 | Takeoff Minimums and Obstacle DP, Amdt 5.
11-Aug-22 | MN | Elbow Lake | Elbow Lake Muni—Pride Of The Prairie | 2/7716 | 4/14/22 | RNAV (GPS) RWY 14, Orig-B.
11-Aug-22 | MN | Elbow Lake | Elbow Lake Muni—Pride Of The Prairie | 2/7717 | 4/14/22 | RNAV (GPS) RWY 32, Orig-B.
11-Aug-22 | IN | Plymouth | Plymouth Muni | 2/8093 | 5/26/22 | RNAV (GPS) RWY 28, Orig-A.
11-Aug-22 | IN | Plymouth | Plymouth Muni | 2/8101 | 5/26/22 | VOR RWY 28, Amdt 11A.
11-Aug-22 | IN | Shelbyville | Shelbyville Muni | 2/8105 | 3/24/22 | VOR RWY 19, Amdt 1C.
11-Aug-22 | IN | Rensselaer | Jasper County | 2/8390 | 4/18/22 | Takeoff Minimums and Obstacle DP, Amdt 1.
11-Aug-22 | KY | Williamsburg | Williamsburg-Whitley County | 2/8395 | 4/19/22 | VOR RWY 20, Orig-E.
11-Aug-22 | MI | Rogers City | Presque Isle County | 2/8425 | 6/16/22 | RNAV (GPS) RWY 9, Orig-A.
11-Aug-22 | MI | Rogers City | Presque Isle County | 2/8426 | 6/16/22 | RNAV (GPS) RWY 27, Orig.
11-Aug-22 | WY | Evanston | Evanston-Uinta County Burns Fld | 2/8599 | 6/15/22 | RNAV (GPS) RWY 23, Amdt 4.
11-Aug-22 | WY | Evanston | Evanston-Uinta County Burns Fld | 2/8600 | 6/15/22 | ILS OR LOC/DME RWY 23, Amdt 1.
11-Aug-22 | WY | Evanston | Evanston-Uinta County Burns Fld | 2/8603 | 6/15/22 | VOR/DME RWY 5, Orig.
11-Aug-22 | IN | Columbus | Columbus Muni | 2/8619 | 4/18/22 | RNAV (GPS) RWY 14, Amdt 1C.
11-Aug-22 | MA | Hyannis | Cape Cod Gateway | 2/8625 | 6/15/22 | RNAV (GPS) RWY 24, Amdt 1A.
11-Aug-22 | MA | Hyannis | Cape Cod Gateway | 2/8630 | 6/15/22 | ILS OR LOC RWY 15, Amdt 5A.
11-Aug-22 | MA | Hyannis | Cape Cod Gateway | 2/8634 | 6/15/22 | RNAV (GPS) RWY 6, Orig-B.
11-Aug-22 | IA | Dubuque | Dubuque Rgnl | 2/8655 | 4/27/22 | RNAV (GPS) RWY 31, Orig-A.
11-Aug-22 | MA | Hyannis | Cape Cod Gateway | 2/8669 | 6/15/22 | RNAV (GPS) RWY 15, Orig-C.
11-Aug-22 | MA | Hyannis | Cape Cod Gateway | 2/8673 | 6/15/22 | VOR RWY 6, Amdt 10.
11-Aug-22 | MA | Hyannis | Cape Cod Gateway | 2/8679 | 6/15/22 | RNAV (GPS) RWY 33, Orig-C.
11-Aug-22 | NM | Silver City | Grant County | 2/8752 | 6/16/22 | VOR-A, Amdt 7C.
11-Aug-22 | MI | Marlette | Marlette Township | 2/8776 | 5/27/22 | RNAV (GPS) RWY 28, Amdt 2.
11-Aug-22 | GA | Fort Stewart (Hinesville) | Wright AAF (Fort Stewart)/Midcoast Rgnl | 2/8905 | 5/20/22 | RNAV (GPS) RWY 33R, Amdt 1A.
11-Aug-22 | GA | Fort Stewart (Hinesville) | Wright AAF (Fort Stewart)/Midcoast Rgnl | 2/8914 | 5/20/22 | NDB RWY 33R, Orig-C.
11-Aug-22 | GA | Fort Stewart (Hinesville) | Wright AAF (Fort Stewart)/Midcoast Rgnl | 2/8918 | 5/20/22 | RNAV (GPS) RWY 6L, Amdt 1.
11-Aug-22 | MI | Hancock | Houghton County Meml | 2/8925 | 6/10/22 | RNAV (GPS) RWY 31, Orig-A.
11-Aug-22 | MI | Hancock | Houghton County Meml | 2/8928 | 6/10/22 | LOC BC RWY 13, Amdt 12A.
11-Aug-22 | MI | Hancock | Houghton County Meml | 2/8930 | 6/10/22 | ILS OR LOC RWY 31, Amdt 15A.
11-Aug-22 | MD | Easton | Easton/Newnam Fld | 2/8978 | 6/2/22 | RNAV (GPS) RWY 4, Amdt 1A.
11-Aug-22 | VA | Melfa | Accomack County | 2/9065 | 5/19/22 | LOC RWY 3, Amdt 1A.
11-Aug-22 | VA | Melfa | Accomack County | 2/9066 | 5/19/22 | RNAV (GPS) RWY 3, Amdt 2A.
11-Aug-22 | VA | Melfa | Accomack County | 2/9067 | 5/19/22 | VOR RWY 3, Amdt 2A.
11-Aug-22 | CO | Denver | Colorado Air And Space Port | 2/9098 | 6/13/22 | RNAV (GPS) RWY 17, Amdt 1C.
11-Aug-22 | KS | Topeka | Topeka Rgnl | 2/9492 | 6/2/22 | VOR/DME OR TACAN RWY 3, Amdt 6C.
11-Aug-22 | LA | Ruston | Ruston Rgnl | 2/9585 | 5/9/22 | NDB RWY 18, Orig-F.
11-Aug-22 | LA | Ruston | Ruston Rgnl | 2/9586 | 5/9/22 | RNAV (GPS) RWY 18, Orig-C.
11-Aug-22 | TX | Tyler | Tyler Pounds Rgnl | 2/9588 | 6/10/22 | RNAV (GPS) RWY 31, Amdt 3.
11-Aug-22 | TX | Tyler | Tyler Pounds Rgnl | 2/9589 | 6/10/22 | VOR RWY 31, Amdt 3A.
11-Aug-22 | IL | Champaign/Urbana | University Of Illinois/Willard | 2/9696 | 5/9/22 | RNAV (GPS) RWY 22, Amdt 1A.
11-Aug-22 | CO | Leadville | Lake County | 2/9702 | 5/25/22 | RNAV (GPS) RWY 16, Amdt 1.
11-Aug-22 | SD | Wagner | Wagner Muni | 2/9753 | 6/10/22 | RNAV (GPS) RWY 27, Orig-B.
11-Aug-22 | SD | Wagner | Wagner Muni | 2/9755 | 6/10/22 | RNAV (GPS) RWY 9, Orig-B.
11-Aug-22 | ME | Augusta | Augusta State | 2/9785 | 6/15/22 | RNAV (GPS) RWY 35, Orig-C.
11-Aug-22 | NY | Saratoga Springs | Saratoga County | 2/9793 | 6/15/22 | VOR/DME-A, Amdt 1B.
11-Aug-22 | MN | Elbow Lake | Elbow Lake Muni—Pride Of The Prairie | 2/9838 | 4/20/22 | Takeoff Minimums and Obstacle DP, Orig.
11-Aug-22 | TX | Denton | Denton Enterprise | 2/9877 | 6/2/22 | RNAV (GPS) RWY 36L, Orig.
11-Aug-22 | KS | McPherson | McPherson | 2/9884 | 4/27/22 | Takeoff Minimums and Obstacle DP, Amdt 2.
11-Aug-22 | FL | Arcadia | Arcadia Muni | 2/9891 | 5/23/22 | Takeoff Minimums and Obstacle DP, Orig.
11-Aug-22 | TX | Houston | William P Hobby | 2/9938 | 3/29/22 | RNAV (GPS) RWY 13R, Amdt 1C.

[FR Doc. 2022-14279 Filed 7-5-22; 8:45 am]

BILLING CODE 4910-13-P